DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the Information Collection abstracted below has been forwarded to the Office of Management and Budget (OMB) for review and approval. The nature of the information collection is described as well as its expected burden. The Federal Register Notice with a 60-day comment period soliciting comments on the following collection of information was published on June 27, 2002. No comments were received.

DATES: Comments must be submitted on or before November 25, 2002.

FOR FURTHER INFORMATION CONTACT: Kathleen Dunn, Maritime Administration, Office of Ports and Domestic Shipping, 400 Seventh Street, Southwest, Washington, DC 20590. Telephone: (202) 366-2307, Fax: (202) 366-6988; or e-mail: kathleen.dunn@marad.dot.gov.

SUPPLEMENTARY INFORMATION: Maritime Administration (MARAD).

Title: Application for Waiver of the Coastwise Trade Laws for Small Passenger Vessels.

OMB Control Number: 2133-0529.

Type of Request: Approval of an existing information collection.

Affected Public: Small passenger vessel owners desirous of operating in the coastwise trade.

Form(s): None.

Abstract: Owners of ship vessels desiring waiver of the coastwise trade laws affecting small passenger vessels may file a written application and justification for waiver to the Maritime Administration (MARAD). Since the authority to accept requests for waivers expired September 30, 2002, but may be reauthorized by Congress, MARAD is requesting the Office of Management and Budget (OMB) to approve this information collection on a voluntary basis. Such approval would permit MARAD to accept requests for waivers promptly upon renewal of the waiver authority by Congress. The agency would then review the application and make a determination whether to grant the requested waiver. In addition, upon reauthorization for MARAD to accept waivers, we would request OMB to restore the original approval of this information collection as “required to obtain or retain benefits.” This request to OMB would not require additional public notice because such notice is hereby given.

Annual Estimated Burden Hours: 100 hours.

Addressee: Send comments to the Office of Information and Regulatory Affairs, Office of Management and Budget, 725 17th Street, NW, Washington, DC 20503, Attention MARAD Desk Officer.

Comments are Invited on: Whether the proposed collection of information is necessary for the proper performance of the functions of the agency, including whether the information will have practical utility; the accuracy of the agency's estimate of the burden of the proposed information collection; ways to enhance the quality, utility and clarity of the information to be collected; and ways to minimize the burden of the collection of information on respondents, including the use of automated collection techniques or other forms of information technology. A comment to OMB is best assured of having its full effect if OMB receives it within 30 days of publication.

Issued in Washington, DC on October 21, 2002.
Joel C. Richard,
Secretary, Maritime Administration.

[FR Doc. 02-27240 Filed 10-24-02; 8:45 am]

BILLING CODE 4910-81-P